DEPARTMENT OF THE INTERIOR

National Park Service

[NPS-WASO-NAGPRA-NPS0034850; PPWOCRADN0-PCU00RP14.R50000]

Notice of Inventory Completion: Alabama Department of Archives and History, Montgomery, AL

AGENCY: National Park Service, Interior.

ACTION: Notice.

SUMMARY: In accordance with the Native American Graves Protection and Repatriation Act (NAGPRA), the Alabama Department of Archives and History (ADAH) has completed an inventory of human remains and associated funerary objects and has determined that there is a cultural affiliation between the human remains and associated funerary objects and Indian Tribes or Native Hawaiian organizations in this notice. The human remains and associated funerary objects were removed from Lowndes County and Montgomery County, AL.

DATES: Repatriation of the human remains and associated funerary objects in this notice may occur on or after December 12, 2022.

ADDRESSES: Kellie Bowers, NAGPRA Coordinator, Alabama Department of Archives and History, P.O. Box 300100, 624 Washington Avenue, Montgomery, AL 36130, telephone (334) 353-4731, email nagpra.adah@archives.alabama.gov.

SUPPLEMENTARY INFORMATION: This notice is published as part of the National Park Service's administrative responsibilities under NAGPRA. The determinations in this notice are the sole responsibility of the Alabama Department of Archives and History. The National Park Service is not responsible for the determinations in this notice. Additional information on the determinations in this notice, including the results of consultation, can be found in the inventory or related records held by the Alabama Department of Archives and History.

Description

Lowndes County, AL

On various dates between 1912 and 1916, and at other, unknown times, human remains representing, at minimum, 26 individuals were removed from the Pintlala site by members of the Alabama Anthropological Society. Between 1916 and 1951, these human remains were donated to the ADAH (Human Remains Identification Numbers 4101, 4138, 4139, 4140, 4170, 4171, 4175, 4176, 4177, 4178, 4179, 4180, 4181, 4182, 4185, 4187, 4188, 4189, 4190, 4191, 4192, 4194, and 4195.) No known individuals were identified. No associated funerary objects are present.

On February 7, 1916, human remains representing, at minimum, one individual were removed from the Pintlala site by members of the Alabama Anthropological Society. Between 1916 and 1951, these human remains were donated to the ADAH (Human Remains Identification Number 4172). No known individual was identified. The seven associated funerary objects are one shell tempered vessel (burial urn), and six ceramic sherds.

On February 7, 1916, human remains representing, at minimum, one individual were removed from the Pintlala site by members of the Alabama Anthropological Society. Between 1916 and 1951, these human remains were donated to the ADAH (Human Remains Identification Number 4173). No known individual was identified. The 30 associated funerary objects are two shell tempered vessels (burial urns), seven ceramic sherds, one ceramic disc, ten stone celt fragments, one stone pigment source, seven stone projectile points, one scraper, and one shell gorget.

On an unknown date, human remains representing, at minimum, one individual were removed from the Pintlala site by members of the Alabama Anthropological Society. Between 1916 and 1951, these human remains were donated to the ADAH (Human Remains Identification Number 4174). No known individual was identified. The one associated funerary object is a shell tempered ceramic sherd.

On February 10, 1916, human remains representing, at minimum, one individual were removed from the Pintlala site by members of the Alabama Anthropological Society. Between 1916 and 1951, these human remains were donated to the ADAH (Human Remains Identification Number 4183). No known individual was identified. The 21 associated funerary objects are 20 ceramic sherds and one piece of daub (clay mixed with grass or straw).

On February 10, 1916, human remains representing, at minimum, one individual were removed from the Pintlala site by members of the Alabama Anthropological Society. Between 1916 and 1951, these human remains were donated to the ADAH (Human Remains Identification Number 4186). No known individual was identified. The two associated funerary objects are one Mississippian plain vessel with strap handles (burial urn) and one incised ceramic cover vessel.

Montgomery County, AL

At an unknown date, human remains representing, at minimum, one individual were removed from the Hoithlewalli site by members of the Alabama Anthropological Society. Between 1916 and 1951, these human remains were donated to the ADAH (Human Remains Identification Number 4116). No known individual was identified. The 197 associated funerary objects are one white clay pipe stem, three celts, 141 assorted projectile points/knives, 36 flakes, seven preforms, six stone drills, and three scrapers.

At an unknown date, human remains representing, at minimum, one individual were removed from the Hoithlewalli site by members of the Alabama Anthropological Society. Between 1916 and 1951, these human remains were donated to the ADAH (Human Remains Identification Number 4122). No known individual was identified. The five associated funerary objects are one brass cone (“tinkler”) and four white clay pipe stem fragments.

At an unknown date, human remains representing, at minimum, one individual were removed from the Hoithlewalli site by members of the Alabama Anthropological Society. Between 1916 and 1951, these human remains were donated to the ADAH (Human Remains Identification Number 4125). No known individual was identified. The 56 associated funerary objects are two glass beads, two stone discs, three stone celts, three worked stones, five ceramic discs, five Native American ceramic sherds, and 36 projectile points.

At an unknown date, human remains representing, at minimum, three individuals were removed from the Hoithlewalli site by members of the Alabama Anthropological Society. Between 1916 and 1951, these human remains were donated to the ADAH (Human Remains Identification Numbers 4126 and 4128). No known individuals were identified. The 30 associated funerary objects are two stone celts, 23 Native American ceramic sherds, three ceramic discs, and two round stones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, kinship, and linguistic.

Determinations

Pursuant to NAGPRA and its implementing regulations, and after consultation with the appropriate Indian Tribes and Native Hawaiian organizations, the Alabama Department of Archives and History has determined that:

• The human remains described in this notice represent the physical remains of 37 individuals of Native American ancestry.

• The 349 objects described in this notice are reasonably believed to have been placed with or near individual human remains at the time of death or later as part of the death rite or ceremony.

• There is a relationship of shared group identity that can be reasonably traced between the human remains and associated funerary objects described in this notice and the Alabama-Coushatta Tribe of Texas (previously listed as Alabama-Coushatta Tribes of Texas); Alabama‐Quassarte Tribal Town; Coushatta Tribe of Louisiana; Jena Band of Choctaw Indians; Kialegee Tribal Town; Miccosukee Tribe of Indians; Mississippi Band of Choctaw Indians; Poarch Band of Creek Indians (previously listed as Poarch Band of Creeks); Seminole Tribe of Florida (previously listed as Seminole Tribe of Florida (Dania, Big Cypress, Brighton, Hollywood, & Tampa Reservations)); The Choctaw Nation of Oklahoma; The Muscogee (Creek) Nation; The Seminole Nation of Oklahoma; and the Thlopthlocco Tribal Town.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 12, 2022. If competing requests for repatriation are received, the Alabama Department of Archives and History must determine the most appropriate requestor prior to repatriation. Requests for joint repatriation of the human remains and associated funerary objects are considered a single request and not competing requests. The Alabama Department of Archives and History is responsible for sending a copy of this notice to the Indian Tribes identified in this notice.

Authority: Native American Graves Protection and Repatriation Act, 25 U.S.C. 3003, and the implementing regulations, 43 CFR 10.9, § 10.10, and § 10.14.

Dated: November 2, 2022.
Melanie O'Brien,
Manager, National NAGPRA Program.

[FR Doc. 2022-24557 Filed 11-9-22; 8:45 am]

BILLING CODE 4312-52-P